DEPARTMENT OF COMMERCE

International Trade Administration

[A-570-141]

Certain Walk-Behind Snow Throwers and Parts Thereof From the People's Republic of China: Final Affirmative Determination of Sales at Less Than Fair Value

AGENCY: Enforcement and Compliance, International Trade Administration, Department of Commerce.

SUMMARY: The Department of Commerce (Commerce) determines that imports of certain walk-behind snow throwers and parts thereof (snow throwers) from the People's Republic of China (China) are being, or are likely to be, sold in the United States at less than fair value (LTFV). The period of investigation is July 1, 2020, through December 31, 2020.

DATES: Applicable March 29, 2022.

FOR FURTHER INFORMATION CONTACT: Brendan Quinn or Laurel LaCivita, AD/CVD Operations, Office III, Enforcement and Compliance, International Trade Administration, U.S. Department of Commerce, 1401 Constitution Avenue NW, Washington, DC 20230; telephone: (202) 482-5848 or (202) 482-4243, respectively.

SUPPLEMENTARY INFORMATION:

Background

On October 26, 2021, Commerce published its Preliminary Determination of sales at LTFV of snow throwers from China, in which we also postponed this final determination until 135 days after the date of publication of the preliminary determination, pursuant to section 735(a)(2) of the Tariff Act of 1930, as amended (the Act).¹ A summary of the events that occurred since Commerce published the Preliminary Determination, as well as a full discussion of the issues raised by parties for this final determination, may be found in the Issues and Decision Memorandum.²

¹ See Certain Walk-Behind Snow Throwers and Parts Thereof from the People's Republic of China: Preliminary Affirmative Determination of Sales at Less Than Fair Value, Postponement of Final Determination, and Extension of Provisional Measures, 86 FR 61135 (November 5, 2021) (Preliminary Determination), and accompanying Preliminary Decision Memorandum (PDM).

² See Memorandum, “Issues and Decision Memorandum for the Final Affirmative Antidumping Duty Determination in the Less-Than-Fair-Value Investigation of Certain Walk-Behind Snow Throwers and Parts Thereof from the People's Republic of China,” dated concurrently with, and hereby adopted by, this notice (Issues and Decision Memorandum).

The Issues and Decision Memorandum is a public document and is available electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Investigation

The products covered by this investigation are snow throwers from China. For a complete description of the scope of this investigation, see Appendix I.

Scope Comments

There have been no scope comments since the Preliminary Determination. As a result, Commerce has made no changes to the scope of this investigation since the Preliminary Determination.

Analysis of Comments Received

All issues raised in the case and rebuttal briefs submitted by interested parties in this investigation are discussed in the Issues and Decision Memorandum. A list of the issues raised by parties and responded to by Commerce in the Issues and Decision Memorandum is attached to this notice as Appendix II.

Verification

Commerce was unable to conduct on-site verification of the information relied upon in making its final determination in this investigation. However, we took additional steps in lieu of an on-site verification to verify the information relied upon in making this final determination, in accordance with section 782(i) of the Act.³

³ See Commerce's Letter, “Certain Walk-Behind Snow Throwers and Parts Thereof from the People's Republic of China: Questionnaire in Lieu of Verification,” dated November 23, 2021; see also Zhejiang Zhouli's Letters, “Certain Walk-Behind Snow Throwers from the People's Republic China: Submission of Minor Corrections Before Verification,” dated November 30, 2021; and “Certain Walk-Behind Snow Throwers and Parts Thereof from the People's Republic China: Submission of Zhejiang Zhouli's Response in Lieu of Verification,” dated November 30, 2021.

Changes Since the Preliminary Determination

Based on our analysis of the comments received and additional information obtained since our Preliminary Determination, we made certain changes to the margin calculations for Zhejiang Zhouli Industrial Co., Ltd. (Zhejiang Zhouli). For a discussion of these changes, see the Issues and Decision Memorandum.

Separate Rate Companies

No party commented on our preliminary separate rate determinations with respect to the mandatory respondents and the non-individually examined companies; thus, we find no basis to reconsider our preliminary determinations with respect to separate rate status, and we have continued to grant these companies separate rates in this final determination.

China-Wide Entity Rate and the Use of Adverse Facts Available

Commerce continues to find that the use of facts available is warranted in determining the rate for the China-wide entity, pursuant to sections 776(a)(1) and (a)(2)(A)-(C) of the Act. As discussed in the Issues and Decision Memorandum, Commerce finds that the use of adverse facts available (AFA) is warranted with respect to the China-wide entity because the China-wide entity failed to cooperate by not acting to the best of its ability to comply with our requests for information and, accordingly, we applied adverse inferences in selecting from the facts available, pursuant to section 776(b) of the Act and 19 CFR 351.308(a).

For the final determination, as AFA, we are assigning the China-wide entity a dumping margin of 223.07 percent, which represents highest individual dumping margin calculated for Zhejiang Zhouli.⁴ Because this rate is not secondary information, but rather is based on information obtained in the course of the investigation, Commerce need not corroborate this rate pursuant to section 776(c) of the Act.⁵

⁴ See Memorandum, “Antidumping Duty Investigation of Certain Walk-Behind Snow Throwers and Parts Thereof from the People's Republic of China: Analysis Memorandum for the Final Determination: Zhejiang Zhouli Industrial Co., Ltd.,” dated concurrently with this notice, at Attachment 3, page 243.

⁵ See Preliminary Determination PDM at 18 (explaining that because Commerce is applying a calculated margin to the China-wide entity, it is not using secondary information as the basis of any margins. As a consequence, it is not necessary to conduct a corroboration analysis for this determination).

Combination Rates

Consistent with the Preliminary Determination, Commerce calculated exporter/producer combination rates for the respondents that are eligible for a separate rate in this investigation. Policy Bulletin 05.1 describes this practice.⁶

⁶ See Enforcement and Compliance's Policy Bulletin No. 05.1, regarding, “Separate-Rates Practice and Application of Combination Rates in Antidumping Investigations involving Non-Market Economy Countries,” (April 5, 2005) (Policy Bulletin 05.1), available on Commerce's website at http://enforcement.trade.gov/policy/bull05-1.pdf.

Final Determination

The estimated weighted-average dumping margins are as follows:

Exporter | Producer | Estimated weighted- average dumping margin (percent) | Cash deposit rate (adjusted for subsidy offsets) (percent)
Zhejiang Zhouli Industrial Co., Ltd | Zhejiang Zhouli Industrial Co., Ltd | 163.27 | 142.19
Ningbo Scojet Import & Export Trade Co., Ltd | Ninghai Yiyi Garden Tools Co., Ltd | 163.27 | 142.19
Sumec Hardware and Tools Co., Ltd | Zhejiang KC Mechanical & Electrical Co., Ltd | 163.27 | 142.19
Zhejiang Amerisun Technology Co., Ltd | Zhejiang Dobest Power Tools Co., Ltd | 163.27 | 142.19
Zhejiang KC Mechanical & Electrical Co., Ltd | Zhejiang KC Mechanical & Electrical Co., Ltd | 163.27 | 142.19
China-Wide Entity |  | 223.07 | 201.99

Disclosure

We intend to disclose to interested parties the calculations and analysis performed in this final determination within five days of any public announcement, or, if there is no public announcement in the Federal Register, within five days of the date of the publication of this notice to parties in this proceeding in accordance with 19 CFR 351.224(b).

Continuation of Suspension of Liquidation

In accordance with section 735(c)(1)(B) of the Act, we intend to instruct U.S. Customs and Border Protection (CBP) to continue to suspend liquidation of all appropriate entries of snow throwers from China, as described in Appendix I to this notice, which were entered, or withdrawn from warehouse, for consumption on or after November 5, 2021, the date of publication of the Preliminary Determination of this investigation in the Federal Register.

Furthermore, pursuant to section 735(c)(1)(B)(ii) of the Act, upon the publication of this notice, Commerce intends to instruct CBP to require a cash deposit equal to the weighted-average amount by which the normal value exceeds U.S. price as follows: (1) The cash deposit rate for the exporter/producer combinations listed in the table above will be the rate identified in the table; (2) for all combinations of Chinese exporters/producers of subject merchandise that have not received their own separate rate above, the cash deposit rate will be the cash deposit rate established for the China-wide entity; and (3) for all non-Chinese exporters of subject merchandise which have not received their own separate rate above, the cash deposit rate will be the cash deposit rate applicable to the Chinese exporter/producer combination that supplied that non-Chinese exporter. These suspension of liquidation instructions will remain in effect until further notice.

To determine the cash deposit rate, Commerce normally adjusts the estimated weighted-average dumping margin by the amount of domestic subsidy pass-through and export subsidies determined in a companion countervailing duty (CVD) proceeding when CVD provisional measures are in effect. Accordingly, where Commerce makes an affirmative determination for domestic subsidy pass-through or export subsidies, Commerce offsets the calculated estimated weighted-average dumping margin by the appropriate rates. Commerce continues to find that Zhejiang Zhouli, and all non-individually-examined companies found eligible for a separate rate qualify for a double-remedy adjustment.⁷ Further, we have continued to adjust the cash deposit rates for Zhejiang Zhouli, all non-individually-examined separate rate companies, and the China-wide entity for export subsidies in the companion CVD investigation by the appropriate export subsidy rates as indicated in the above chart. However, suspension of liquidation according to provisional measures in the companion CVD case has been discontinued effective January 8, 2022; therefore, we are not instructing CBP to collect cash deposits based upon the adjusted estimated weighted-average dumping margin for those export subsidies and double remedy adjustment at this time.

⁷ See Preliminary Determination PDM at 26.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports of snow throwers from China no later than 45 days after our final determination. If the ITC determines that material injury or threat of material injury does not exist, the proceeding will be terminated, and all cash deposits will be refunded. If the ITC determines that material injury or threat of material injury does exist, Commerce will issue an antidumping duty order directing CBP to assess, upon further instruction by Commerce, antidumping duties on all imports of the subject merchandise, entered, or withdrawn from warehouse, for consumption on or after the effective date of the suspension of liquidation.

Notification Regarding Administrative Protective Orders

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and terms of an APO is a violation subject to sanction.

Notification to Interested Parties

This determination is issued and published in accordance with sections 735(d) and 777(i)(1) of the Act, and 19 CFR 351.210(c).

Dated: March 21, 2022.
Lisa W. Wang,
Assistant Secretary for Enforcement and Compliance.

Appendix I

Scope of the Investigation

The merchandise covered by this investigation consists of gas-powered, walk-behind snow throwers (also known as snow blowers), which are snow moving machines that are powered by internal combustion engines and primarily pedestrian-controlled. The scope of the investigation covers certain snow throwers (also known as snow blowers), whether self-propelled or non-self-propelled, whether finished or unfinished, whether assembled or unassembled, and whether containing any additional features that provide for functions in addition to snow throwing. Subject merchandise also includes finished and unfinished snow throwers that are further processed in a third country or in the United States, including, but not limited to, assembly or any other processing that would not otherwise remove the merchandise from the scope of this investigation if performed in the country of manufacture of the in-scope snow throwers.

Walk-behind snow throwers subject to the scope of this investigation are powered by internal combustion engines which are typically spark ignition, single or multiple cylinder, and air-cooled with power take off shafts.

For the purposes of this investigation, an unfinished and/or unassembled snow thrower means at a minimum, a subassembly comprised of an engine, auger housing (i.e., intake frame), and an auger (or “auger paddle”) packaged or imported together. An intake frame is the portion of the snow thrower—typically of aluminum or steel—that houses and protects an operator from a rotating auger and is the intake point for the snow. Importation of the subassembly whether or not accompanied by, or attached to, additional components including, but not limited to, handle(s), impeller(s), chute(s), track tread(s), or wheel(s) constitutes an unfinished snow thrower for purposes of this investigation. The inclusion in a third country of any components other than the snow thrower sub-assembly does not remove the snow thrower from the scope. A snow thrower is within the scope of this investigation regardless of the origin of its engine.

Specifically excluded is merchandise covered by the scope of the antidumping and countervailing duty orders on certain vertical shaft engines between 225cc and 999cc, and parts thereof from the People's Republic of China. See Certain Vertical Shaft Engines Between 225cc and 999cc, and Parts Thereof, from the People's Republic of China: Amended Final Antidumping Duty Determination and Antidumping Duty Order, 86 FR 12623 (March 4, 2021) and Certain Vertical Shaft Engines Between 225cc and 999cc, and Parts Thereof from the People's Republic of China: Countervailing Duty Order and Amended Final Affirmative Countervailing Duty Determination, 86 FR 12619 (March 4, 2021).

Also specifically excluded is merchandise covered by the scope of the antidumping and countervailing duty orders on certain vertical shaft engines between 99cc and Up to 225cc, and parts thereof from the People's Republic of China. See Certain Vertical Shaft Engines Between 99cc and Up to 225cc, and Parts Thereof from the People's Republic of China: Antidumping and Countervailing Duty Orders, 86 FR 023675 (May 4, 2021).

The snow throwers subject to this investigation are typically entered under Harmonized Tariff Schedule of the United States (HTSUS) subheading 8430.20.0060. Certain parts of snow throwers subject to this investigation may also enter under HTSUS 8431.49.9095. The HTSUS subheadings are provided for convenience and customs purposes only, and the written description of the merchandise under investigation is dispositive.

Appendix II

List of Topics Discussed in the Issues and Decision Memorandum

I. Summary

II. Background

III. Period of Investigation

IV. Scope of the Investigation

V. China-Wide Rate

VI. Changes Since the Preliminary Determination

VII. Discussion of the Issues

Comment 1: China's Designation as a Non-Market Economy

Comment 2: Selection of the Primary Surrogate Country

Comment 3: Selection of Surrogate Financial Statements

Comment 4: The Calculation of Surrogate Financial Ratios

Comment 5: Selection of Surrogate Values for Gasoline Engines

Comment 6: Selection of Surrogate Values for Tires and Wheel Hubs

Comment 7: Zhejiang Zhouli's By-Product Offset

VIII. Recommendation

[FR Doc. 2022-06557 Filed 3-28-22; 8:45 am]

BILLING CODE 3510-DS-P